DEPARTMENT OF TRANSPORTATION

Federal Aviation Administration

14 CFR Part 39

[Docket No. 2003-SW-47-AD; Amendment 39-14009; AD 2005-06-01]

RIN 2120-AA64

Airworthiness Directives; Eurocopter France Model EC 155B and EC 155B1 Helicopters

AGENCY: Federal Aviation Administration, DOT.

ACTION: Final rule.

SUMMARY: This amendment adopts a new airworthiness directive (AD) for Eurocopter France (Eurocopter) Model EC 155B and EC 155B1 helicopters that requires inspecting the chamfer of the stop on the cabin sliding doors (doors) and installing an airworthy stop if the chamfer exceeds a certain length; and prior to each flight, visually checking the door to determine if it is correctly locked in the open position before flying with the doors open, and checking the locking indicator light and the position of the door handles before flying with the doors closed. This amendment also requires revising the Limitations Section of the Rotorcraft Flight Manual (RFM) to prohibit the opening or closing of a cabin sliding door at airspeeds of 40 or greater knots indicated airspeed (KIAS). This amendment is prompted by a report of a door separating from a helicopter during flight. The actions specified by this AD are intended to prevent separation of a door during flight and damage to the helicopter, resulting in a forced landing or loss of control of the helicopter.

DATES: Effective April 18, 2005.

The incorporation by reference of certain publications listed in the regulations is approved by the Director of the Federal Register as of April 18, 2005.

ADDRESSES: The service information referenced in this AD may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas.

FOR FURTHER INFORMATION CONTACT: Charles Harrison, Aviation Safety Engineer, FAA, Rotorcraft Directorate, Regulations and Guidance Group, Fort Worth, Texas 76193-0111, telephone (817) 222-5128, fax (817) 222-5961.

SUPPLEMENTARY INFORMATION: A proposal to amend 14 CFR part 39 to include an AD for Eurocopter Model EC 155B and EC 155B1 helicopters was published in the Federal Register on August 19, 2004 (69 FR 51402). That action proposed to require, before further flight, revising the Limitations Section of the RFM to prohibit opening or closing the cabin doors except at speeds of less than 40 KIAS; within the next 50 hours TIS, inspecting the chamfer of the stop of the lower rail aft fitting of the doors, and if the chamfer is greater than 2mm in length, installing an airworthy stop. That action also proposed to require; prior to each flight with a door open, visually checking that the door is correctly locked in the open position; and prior to flight with a door closed, checking that the locking indicator light on the instrument panel is “off” when the door is closed, that the door handles are in the correct closed position when the door is locked, and that the lower locking pin is correctly positioned in its catch. These closed-door checks were proposed to be required until a chamfer that is 2mm or less in length is installed and, in accordance with MOD 0753C48, the mounting support plates are modified and the door micro-switches are adjusted. It was proposed that the modification would be accomplished in accordance with the manufacturer's service information.

It was also proposed that the owner/operator (pilot) holding at least a private pilot certificate may perform the visual checks required by paragraphs (c) and (d) of the proposed AD and must enter compliance with those paragraphs into the aircraft maintenance records in accordance with 14 CFR 43.11 and 91.417(a)(2)(v). The AD would allow a pilot to perform these checks because they involve only visual checks to ensure that the cabin sliding doors are correctly locked in the open or closed position, and can be performed equally well by a pilot or a mechanic.

The Direction Generale De L'Aviation Civile (DGAC), the airworthiness authority for France, notified the FAA that an unsafe condition may exist on Model EC 155B and EC 155B1 helicopters. The DGAC advises that they have issued an AD following the loss in flight of a cabin sliding door.

Eurocopter issued Alert Service Bulletin No. 52A015, dated September 8, 2003, which specified a modification (MOD 0753C48) to the micro switch support, and an adjustment to the micro switch to ensure lighting of the instrument panel “DOORS” light in the event of insufficient engagement of the cabin sliding door locking pin in its catch. The FAA did not mandate compliance with this alert service bulletin.

Eurocopter has also issued Alert Telex No. 52A013, Revision 1, dated September 24, 2003, which specifies:

• Within the next 50 hours time-in-service (TIS), inspecting the length of the chamfer on the stop of the lower rail aft fitting of the cabin sliding doors;

• Prior to flight with a cabin sliding door open, visually checking that the door is correctly locked in the open position;

• Prior to flight with a cabin sliding door closed, checking that the locking indicator light on the instrument panel is off when the door is closed, and when locking the door, checking that the door handle is in the closed position; and

• While in flight, prohibiting the opening or closing of a cabin sliding door at airspeeds of 40 or greater KIAS.

The DGAC classified this alert telex as mandatory and issued AD No. F-2003-345 R1, dated November 12, 2003, to ensure the continued airworthiness of these helicopters in France.

These helicopter models are manufactured in France and are type certificated for operation in the United States under the provisions of 14 CFR 21.29 and the applicable bilateral agreement. Pursuant to the applicable bilateral agreement, the DGAC has kept the FAA informed of the situation described above. The FAA has examined the findings of the DGAC, reviewed all available information, and determined that AD action is necessary for products of these type designs that are certificated for operation in the United States.

Interested persons have been afforded an opportunity to participate in the making of this amendment. No comments were received on the proposal or the FAA's determination of the cost to the public. The FAA has determined that air safety and the public interest require the adoption of the rule as proposed.

This AD is an interim action until modified parts are developed. Additionally, if a door is opened or closed during flight, in accordance with the limitations of the RFM, the FAA anticipates that the appropriate crewmembers will assure that the door is properly secured.

The FAA estimates that this AD will affect 3 helicopters of U.S. registry. It will take approximately 1 minute for each check on each helicopter, 2 work hours per helicopter to install 2 new stops, and 2 work hours to modify each helicopter in accordance with MOD 0753C48, at an average labor rate of $65 per work hour. Required parts will cost approximately $1,125 ($375 per helicopter). Based on these figures, we estimate the total cost impact of the AD on U.S. operators to be $ 3,855 for the entire fleet, assuming 600 checks per helicopter and assuming that two stops are replaced on each helicopter, each helicopter is modified in accordance with MOD 0753C48, and the time to make the one-time revision to the RFM is negligible.

Regulatory Findings

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2005-06-01 Eurocopter France: Amendment 39-14009. Docket No. 2003-SW-47-AD.

Applicability: Model EC 155B and EC 155B1 helicopters with cabin sliding doors, part number (P/N) 365A82-1064-02 (left-hand door) and P/N 365A82-1064-03 (right-hand door) and stop, P/N 365A25-8085-21, installed, certificated in any category.

Compliance: Required as indicated, unless accomplished previously.

To prevent separation of a door during flight and damage to the helicopter, resulting in a forced landing or loss of control of the helicopter, accomplish the following:

(a) Before further flight, revise the Limitations Section of the Rotorcraft Flight Manual (RFM) permitting the opening or closing of the cabin sliding doors only at speeds of less than 40 knots indicated airspeed.

(b) Within 50 hours time-in-service, inspect the length of the chamfer on the stop of the lower rail aft fitting on each cabin sliding door (door), and if the chamfer is more than 2mm in length, install an airworthy stop in accordance with paragraph 2.B., Operational Procedure, of Eurocopter Alert Telex No. 52A013, Revision 1, dated September 24, 2003.

Note 1: The inspection required by paragraph (b) of this AD has already been accomplished for all Model EC 155B1 helicopters prior to delivery.

(c) Before each flight with a door open, check that each open door is locked in the “open” position with the upper roller in its rail and the door open locking latch engaged.

(d) Before each flight with a door closed, check that:

(1) The locking indicator light on the instrument panel is “off,”

(2) The door handle is in the correct “closed” position, and

(3) The lower locking pin is positioned in its catch.

Note 2: If the door is correctly closed and latched, when viewed from the outside, the door handle will be flush with the profile of the housing and the aft lower corner of the door will be flush with the profile of the fuselage; when viewed from the inside, the door handle will be positioned opposite the locking indicator with no gap between the structure seal and the aft lower sealing surface of the door.

Note 3: If the door is closed and the lower locking pin is outside its catch, when viewed from the outside, the aft lower corner of the door is approximately 15 to 20mm from the fuselage; when viewed from the inside, the aft lower corner of the door is approximately 10 to 15mm from the fuselage.

(e) An owner/operator (pilot) holding at least a private pilot certificate may perform the visual checks required by paragraphs (c) and (d) of this AD and must enter compliance with those paragraphs into the aircraft maintenance records in accordance with 14 CFR 43.11 and 91.417(a)(2)(v).

(f) After the stops of the lower rail aft fitting with a chamfer 2mm or less in length are installed and in accordance with MOD 0753C48, the mounting plate supports are modified and the door micro-switches are adjusted, the checks required by paragraph (d) of this AD are no longer required.

(g) To request a different method of compliance or a different compliance time for this AD, follow the procedures in 14 CFR 39.19. Contact the Safety Management Group, Rotorcraft Directorate, FAA, for information about previously approved alternative methods of compliance.

(h) The modification shall be done in accordance with Eurocopter Alert Telex No. 52A013, Revision 1, dated September 24, 2003. The Director of the Federal Register approved this incorporation by reference in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas; or at the National Archives and Records Administration (NARA). For information on the availability of this material at NARA, call 202-741-6030, or go to: http://www.archives.gov/federal_register/code_of_federal_regulations/ibr_locations.html.

(i) This amendment becomes effective on April 18, 2005.

Note 4: The subject of this AD is addressed in Direction Generale De L'Aviation Civile (France) AD No. F-2003-345-R1, dated November 12, 2003.

Issued in Fort Worth, Texas, on March 4, 2005.
David A. Downey,
Manager, Rotorcraft Directorate, Aircraft Certification Service.

[FR Doc. 05-4807 Filed 3-11-05; 8:45 am]

BILLING CODE 4910-13-P